DEPARTMENT OF TRANSPORTATION

Federal Aviation Administration

14 CFR Part 39

[Docket No. FAA-2000-8460; Notice No. 01-02]

RIN 2120-AH17

Airworthiness Directives

AGENCY: Federal Aviation Administration (FAA), DOT.

ACTION: Notice of proposed rulemaking (NPRM); extension of comment period.

SUMMARY: This action extends the comment period for an NPRM that was published on January 12, 2001. In that document, the FAA proposed to move several standard provisions currently found in every airworthiness directive into its regulations pertaining to airworthiness directives. This extension is a result of a request from Helicopter Association International to extend the comment period to the proposal.

DATES: Comments must be received on or before March 29, 2001.

ADDRESSES: Address your comments to the Docket Management System, U.S. Department of Transportation, Room Plaza 401, 400 Seventh Street, SW., Washington, DC 20590-0001. You must identify the docket number FAA-2000-8460 at the beginning of your comments, and you should submit two copies of your comments. If you wish to receive confirmation that FAA received your comments, include a self-addressed, stamped postcard.

You may also submit comments through the Internet to http://dms.dot.gov. you may review the public docket containing comments to these proposed regulations in person in the Dockets Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Donald Byrne, Assistant Chief Counsel, Regulations Division, AGC-200, Federal Aviation Administration, 800 Independence Ave., SW., Washington, DC 20591; telephone (202) 267-3073.

SUPPLEMENTARY INFORMATION:

Comments Invited

Interested persons are invited to participate in the making of the proposed action by submitting such written data, views, or arguments as they may desire. Comments relating to the environmental, energy, federalism, or economic impact that might result from adopting the proposals in this document also are invited. Substantive comments should be accompanied by cost estimates. Comments must identify the regulatory docket or notice number and be submitted in duplicate to the DOT Rules Docket address specified above.

All comments received, as well as a report summarizing each substantive public contact with FAA personnel concerning this proposed rulemaking, will be filed in the docket. The docket is available for public inspection before and after the comment closing date.

All comments received on or before the closing date will be considered by the Administrator before taking action on this proposed rulemaking. Comments filed late will be considered as far as possible without incurring expense or delay. The proposals in this document may be changed in light of the comments received.

Commenters wishing the FAA to acknowledge receipt of their comments submitted in response to this document must include a pre-addressed, stamped postcard with those comments on which the following statement is made: “Comments to Docket No. FAA-2000-8460.” The postcard will be date stamped and mailed to the commenter.

Availability of NPRMs

An electronic copy is available on the Internet by taking the following steps:

(1) Go to the search function of the Department of Transportation's electronic Docket Management System (DMS) Web page (http://dms.dot.gov/search).

(2) On the search page type in the last four digits of the Docket number shown at the beginning of this notice. Click on “search.”

(3) On the next page, which contains the Docket summary information for the docket selected, click on the proposed rule.

An electronic copy is also available on the Internet through FAA's web page at http://www.faa.gov/avr/arm/nprm/nprm.htm or the Federal Register's web page at http://www.access.gpo.gov/su_docs/aces/aces140.html.

Further, a copy may be obtained by submitting a written request to the Federal Aviation Administration, Office of Rulemaking, ARM-1, 800 Independence Avenue, SW., Washington, DC 20591, or by calling (202) 267-9680. Make sure to identify the notice number or docket number of this proposed rule.

Background

On November 29, 2000, the Federal Aviation Administration (FAA) issued Notice No. 00-15, Airworthiness Directives (66 FR 3382, January 12, 2001). Comments to that document were to be received on or before February 12, 2001.

By letter dated January 31, 2001, Helicopter Association International requested that the FAA extend the comment period for Notice No. 00-15 until March 14, 2001, to allow HAI to comment on the proposed revisions to part 39. Although HAI requests only a 30 day extension of the comment period, the FAA believes a 45 day extension would be adequate for HAI and other interested persons to provide comment to Notice No. 00-15.

Extension of Comment Period

In accordance with § 11.47 of Title 14, Code of Federal Regulations, the FAA has reviewed the petition made by HAI for extension of the comment period to Notice No. 00-15. HAI has shown an interest in the proposed rule and good cause for the extension. The FAA also has determined that extension of the comment period is in the public interest, and that good cause exists for taking this action.

Accordingly, the comment period for Notice No. 00-15 is extended until March 29, 2001.

Ronald T. Wojnar,
Acting Director, Aircraft Certification Service.

[FR Doc. 01-3884 Filed 2-12-01; 5:02 pm]

BILLING CODE 4910-13-M